DEPARTMENT OF COMMERCE

National Oceanic and Atmospheric Administration

RIN 0648-XA007

New England Fishery Management Council (NEFMC); Public Meeting; Correction

AGENCY: National Marine Fisheries Service (NMFS), National Oceanic and Atmospheric Administration (NOAA), Commerce.

ACTION: Notice of correction to a public meeting; addition to agenda.

SUMMARY: The New England Fishery Management Council (Council) will hold a three-day meeting on Tuesday through Thursday, November 16-18, 2010 to consider actions affecting New England fisheries in the exclusive economic zone (EEZ).

DATES: The meeting will be held on Tuesday, Wednesday and Thursday, November 16-18, starting at 8:30 a.m. each day.

ADDRESSES: The meeting will be held at the Ocean Edge Resort, 2907 Main Street, Brewster, MA 02631-1946; telephone (508) 896-9000; fax: (508) 896-9123.

FOR FURTHER INFORMATION CONTACT: Paul J. Howard, Executive Director, New England Fishery Management Council; telephone: (978) 465-0492.

SUPPLEMENTARY INFORMATION: The original notice published in the Federal Register on October 28, 2010 at 75 FR 66357.

Thursday, November 18, 2010

The New England Fishery Management Council's November 16-18 agenda will occur as previously published in the Federal Register on October 28, 2010. On Thursday, November 18, 2010, however, the final day of the meeting, there will be an addition to the items the Council will address. Just prior to adjournment, the Council will receive a report from the Joint Spiny Dogfish Committee, during which the NEFMC is scheduled to approve management measures for this fishery for the 2011 fishing year.

The spiny dogfish resource is managed jointly by the Mid-Atlantic Fishery Management Council, which recently set the annual quota and trip limits for the fishery for May 1, 2011-April 30, 2012. The New England Council will vote on the same issues and adjourn following discussion of any other outstanding Council business.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

The meeting is physically accessible to people with disabilities. Requests for sign language interpretation or other auxiliary aids should be directed to Paul J. Howard (see ADDRESSES) at least 5 days prior to the meeting date.

Dated: October 29, 2010.
Tracey L. Thompson,
Acting Director, Office of Sustainable Fisheries, National Marine Fisheries Service.

[FR Doc. 2010-27735 Filed 11-2-10; 8:45 am]

BILLING CODE 3510-22-P